DEPARTMENT OF COMMERCE

National Oceanic and Atmospheric Administration

Agency Information Collection Activities; Submission to the Office of Management and Budget (OMB) for Review and Approval; Comment Request; Southeast Region Logbook Family of Forms

The Department of Commerce will submit the following information collection request to the Office of Management and Budget (OMB) for review and clearance in accordance with the Paperwork Reduction Act of 1995, on or after the date of publication of this notice. We invite the general public and other Federal agencies to comment on proposed and continuing information collections, which helps us assess the impact of our information collection requirements and minimize the public's reporting burden. Public comments were previously requested via the Federal Register on August 16th, 2024, during a 60-day comment period. This notice allows for an additional 30 days for public comments.

Agency: National Oceanic and Atmospheric Administration, Commerce.

Title: Southeast Region Logbook Family of Forms.

OMB Control Number: 0648-0016.

Form Number(s): None.

Type of Request: Regular submission [extension of a currently approved collection].

Number of Respondents: 14,083.

Average Hours per Response: 2 minutes: Trip Declaration, 5 minutes: Power-Down Exemption, Landing Location Request, and South Atlantic for Hire Electronic Reporting Program. 6 minutes: Wreck fish Logbook, Gold Crab Logbook, and Costal Logbook. 9 minutes: Head boat Logbook. 10 minutes: Economic Trip Cost Logbook for SE Costal Fisheries and Fishing Report. 15 minutes: Discard report for permit holders and Intercept Survey. 45 minutes: Annual Cost Survey for Permit Holders. 5 hours: Gulf for hire reporting program.

Total Annual Burden Hours: 49,407 hours.

Needs and Uses: The National Oceanic and Atmospheric Administration's (NOAA's) National Marine Fisheries Service (NMFS) is seeking to extend the information collections currently approved under OMB Control No. 0648-0016. The NMFS Southeast Region manages commercial and recreational fisheries in Federal waters of the Gulf of America (Gulf), South Atlantic, and Caribbean under the authority of the Magnuson-Stevens Fishery Conservation and Management Act (Magnuson-Stevens Act), 16 U.S.C. 1801 et seq., through regulations implemented at 50 CFR part 622. Participants in most of these federally managed fisheries are required to keep and submit logbooks of their fishing effort and catch from their fishing trips. Some fishermen on these vessels also provide information on the species and quantities of fish, shellfish, marine turtles, and marine mammals that are caught and discarded or have interacted with the fishing gear. These fishermen may also provide information about dockside prices, trip operating costs, and annual fixed costs.

NOAA is currently drafting revised regulations to comply with a court order from the U.S. Fifth Circuit Court of Appeals, which effectively invalidated previous regulations implemented by NMFS. That rule is not yet available or effective during this time and therefore, this collection still reflects those requirements. In the future, a request for a revision will be submitted to comply with the approved court order.

Affected Public: Businesses or other for-profit organizations.

Frequency: Annually, or on occasion.

Respondent's Obligation: Mandatory.

Legal Authority: Magnuson-Stevens Act, 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0016.

Sheleen Dumas,
Departmental PRA Compliance Officer, Office of the Under Secretary for Economic Affairs, Commerce Department.

[FR Doc. 2025-13494 Filed 7-17-25; 8:45 am]

BILLING CODE 3510-22-P